DEPARTMENT OF DEFENSE

Office of the Secretary

Defense Innovation Board; Notice of Federal Advisory Committee Meeting

AGENCY: Chief Management Officer, Department of Defense.

ACTION: Notice of federal advisory committee meeting.

SUMMARY: The Department of Defense (DoD) is publishing this notice to announce that the following Federal Advisory Committee meeting of the Defense Innovation Board (DIB) will take place.

DATES: Open to the public Wednesday, July 11, 2018 from 2:30 p.m. to 5:00 p.m.

ADDRESSES: The meeting will be held at the Defense Innovation Unit Experimental (DIUx) Auditorium, 230 RT Jones Road, Mountain View, CA 94043. Additionally, the meeting will be live streamed for those who are unable to physically attend the meeting.

FOR FURTHER INFORMATION CONTACT: Michael L. Gable, (571) 372-0933 (Voice), (Facsimile), michael.l.gable.civ@mail.mil (Email). Mailing address is Defense Innovation Board, 9010 Defense Pentagon, Room 5E572, Washington, DC 20301-9010. Website: http://innovation.defense.gov. The most up-to-date changes to the meeting agenda can be found on the website.

SUPPLEMENTARY INFORMATION: Due to circumstances beyond the control of the Department of Defense (DoD) and the Designated Federal Officer, the Defense Innovation Board was unable to provide public notification required by 41 CFR 102-3.150(a) concerning the meeting on July 11, 2018, of the Defense Innovation Board. Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DIB is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: During the meeting, the DIB will deliberate on building innovation capacity among allies and partners, metrics for software development and acquisition programs from the Software Acquisition and Practices (SWAP) study, and development and deployment of emerging technologies within DoD. Mr. Joshua Marcuse, in his role as the Innovation Advisor to the Chief Management Officer, will brief the DIB on DoD's latest implementation activities related to DIB recommendations. Members of the public will have an opportunity to provide oral comments to the DIB regarding the DIB's deliberations and potential recommendations. See below for additional information on how to sign up to provide public comments.

Meeting Accessibility: Pursuant to Federal statutes and regulations (the FACA, the Sunshine Act, and 41 CFR 102-3.140 through 102-3.165) and the availability of space, the meeting is open to the public from 2:30 p.m. to 5:00 p.m. Seating is on a first-come basis. Members of the public wishing to attend the meeting or wanting to receive a link to the live stream webcast should register on the DIB website, http://innovation.defense.gov, no later than July 6, 2018. Members of the media should RSVP to Lieutenant Colonel Mike Andrews, U.S. Air Force, Office of the Secretary of Defense Public Affairs, at michael.r.andrews16.mil@mail.mil.

Written Statements: Pursuant to section 10(a)(3) of the FACA and 41 CFR 102-3.140, the public or interested organizations may submit written comments to the DIB about its approved agenda pertaining to this meeting or at any time regarding the DIB's mission. Individuals submitting a written statement must submit their statement to the DFO (see FOR FURTHER INFORMATION CONTACT section for contact information). Written comments that do not pertain to a scheduled meeting may be submitted at any time. However, if individual comments pertain to a specific topic being discussed at the planned meeting, then such comments must be received in writing not later than July 6, 2018. The DFO will compile all written submissions and provide them to DIB members for consideration.

Oral Presentations: Individuals wishing to make an oral statement to the DIB at the public meeting may be permitted to speak for up to two minutes. Anyone wishing to speak to the DIB should submit a request by email at osd.innovation@mail.mil not later than July 6, 2018 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: June 25, 2018.
Shelly E. Finke,
Alternate OSD Federal Register, Liaison Officer, Department of Defense.

[FR Doc. 2018-13919 Filed 6-27-18; 8:45 am]

BILLING CODE 5001-06-P